DEPARTMENT OF EDUCATION

Applications for New Awards; Student Support Services Program

AGENCY: Office of Postsecondary Education, Department of Education.

ACTION: Notice.

SUMMARY: The Department of Education (Department) is issuing a notice inviting applications for new awards for fiscal year (FY) 2025 for the Student Support Services (SSS) Program, Assistance Listing Number 84.042A. This notice relates to the approved information collection under OMB control number 1840-0017.

DATES:

Applications Available: May 1, 2024.

Deadline for Transmittal of Applications: July 15, 2024.

Deadline for Intergovernmental Review: September 13, 2024.

ADDRESSES: For the addresses for obtaining and submitting an application, please refer to our Common Instructions for Applicants to Department of Education Discretionary Grant Programs, published in the Federal Register on December 7, 2022 (87 FR 75045), and available at www.federalregister.gov/d/2022-26554.

FOR FURTHER INFORMATION CONTACT: Lavelle Wright, U.S. Department of Education, 400 Maryland Avenue SW, 5th Floor, Washington, DC 20202-4260. Telephone: (202) 987-1300. Email: Lavelle.Wright@ed.gov.

If you are deaf, hard of hearing, or have a speech disability and wish to access telecommunications relay services, please dial 7-1-1.

SUPPLEMENTARY INFORMATION:

Full Text of Announcement

I. Funding Opportunity Description

Purpose of Program: The purpose of the SSS Program is to increase the number of disadvantaged students, including low-income college students, first-generation college students, and college students with disabilities, who successfully complete a program of study at the postsecondary level. The support services that are provided should increase the retention and graduation rates for these categories of students and facilitate their transfer from two-year to four-year colleges and universities. The support services should also foster an institutional climate that supports the success of students who are limited English proficient, students from groups that are historically underrepresented in postsecondary education, students with disabilities, students who are homeless children and youths, students who are in foster care or are aging out of the foster care system, and other disconnected students. Student support services should also improve the financial and economic literacy of students.

Priorities: This notice contains two competitive preference priorities. Competitive Preference Priorities 1 and 2 are from the Secretary's Notice of Final Supplemental Priorities and Definitions for Discretionary Grant Programs, published in the Federal Register on December 10, 2021 (86 FR 70612) (Supplemental Priorities).

Note: Applicants must include, in the one-page abstract submitted with the application, a statement indicating which, if any, of the competitive preference priorities are addressed. If the applicant has addressed the competitive preference priorities, this information must also be listed on the SSS Program Profile Form.

Competitive Preference Priorities: For FY 2025 and any subsequent year for which we make awards from the list of unfunded applications from this competition, these priorities are competitive preference priorities. Under 34 CFR 75.105(c)(2)(i), we award up to an additional eight points to an application, depending on how well the application meets these priorities.

These priorities are:

Competitive Preference Priority 1—Meeting Student Social, Emotional, and Academic Needs (up to 3 points).

Projects that are designed to improve students' social, emotional, academic, and career development needs, with a focus on underserved students, by creating education and work-based settings that are supportive, positive, identity-safe and inclusive, including with regard to race, ethnicity, culture, language, and disability status, through the following activity:

Supporting students to engage in high-quality, real-world, hands-on learning that is aligned with classroom instruction and takes place in community-based settings, such as apprenticeships, pre-apprenticeships, work-based learning, and service learning, and in civic activities, that allow students to apply their knowledge and skills, strengthen their employability skills, such as critical thinking, complex problem solving, and effective communication, and access career exploration opportunities.

Competitive Preference Priority 2—Increasing Postsecondary Education Access, Affordability, Completion, and Post-Enrollment Success (up to 5 points).

Projects that are designed to increase postsecondary access, affordability, completion, and success for underserved students by addressing one or both of the following priority areas:

(a) Increasing postsecondary education access and reducing the cost of college by creating clearer pathways for students between institutions and making transfer of course credits more seamless and transparent (up to 2 points).

(b) Establishing a system of high-quality data collection and analysis, such as data on enrollment, persistence, retention, completion, and post-college outcomes, for transparency, accountability, and institutional improvement (up to 3 points).

Definitions: The following definitions apply to this competition. The definitions of “demonstrates a rationale,” “logic model,” “project component,” and “relevant outcomes” are from 34 CFR 77.1. The definitions of “children or students with disabilities,” “disconnected youth,” “English learner,” “military- or veteran-connected student,” and “underserved student” are from the Supplemental Priorities.

Children or students with disabilities means children with disabilities as defined in section 602(3) of the Individuals with Disabilities Education Act (IDEA) (20 U.S.C. 1401(3)) and 34 CFR 300.8, or students with disabilities, as defined in the Rehabilitation Act of 1973 (29 U.S.C. 705(37), 705(202)(B)).

Demonstrates a rationale means a key project component included in the project's logic model is informed by research or evaluation findings that suggest the project component is likely to improve relevant outcomes.

Disconnected youth means an individual, between the ages 14 and 24, who may be from a low-income background, experiences homelessness, is in foster care, is involved in the justice system, or is not working or not enrolled in (or at risk of dropping out of) an educational institution.

English learner means an individual who is an English learner as defined in section 8101(20) of the Elementary and Secondary Education Act of 1965, as amended, or an individual who is an English language learner as defined in section 203(7) of the Workforce Innovation and Opportunity Act.

Logic model (also referred to as a theory of action) means a framework that identifies key project components of the proposed project (i.e., the active “ingredients” that are hypothesized to be critical to achieving the relevant outcomes) and describes the theoretical and operational relationships among the key project components and relevant outcomes.

Note: In developing logic models, applicants may want to use resources such as the Regional Educational Laboratory Program's (REL Pacific) Education Logic Model Application, available at https://ies.ed.gov/ncee/edlabs/regions/pacific/elm.asp to help design their logic models. Other sources include: https://ies.ed.gov/ncee/edlabs/regions/pacific/pdf/REL_2014025.pdf, https://ies.ed.gov/ncee/edlabs/regions/pacific/pdf/REL_2014007.pdf, and https://ies.ed.gov/ncee/edlabs/regions/northeast/pdf/REL_2015057.pdf.

Military- or veteran-connected student means one or more of the following:

(a) A child participating in an early learning program, a student enrolled in preschool through grade 12, or a student enrolled in career and technical education or postsecondary education who has a parent or guardian who is a member of the uniformed services (as defined by 37 U.S.C. 101), in the Army, Navy, Air Force, Marine Corps, Coast Guard, Space Force, National Guard, Reserves, National Oceanic and Atmospheric Administration, or Public Health Service or is a veteran of the uniformed services with an honorable discharge (as defined by 38 U.S.C. 3311).

(b) A student who is a member of the uniformed services, a veteran of the uniformed services, or the spouse of a service member or veteran.

(c) A child participating in an early learning program, a student enrolled in preschool through grade 12, or a student enrolled in career and technical education or postsecondary education who has a parent or guardian who is a veteran of the uniformed services (as defined by 37 U.S.C. 101).

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

Underserved student means a student in one or more of the following subgroups:

(a) A student who is living in poverty or is served by schools with high concentrations of students living in poverty.

(b) A student of color.

(c) A student who is a member of a federally recognized Indian Tribe.

(d) An English learner.

(e) A child or student with a disability.

(f) A disconnected youth.

(g) A student experiencing homelessness or housing insecurity.

(h) A lesbian, gay, bisexual, transgender, queer or questioning, or intersex (LGBTQI+) student.

(i) A student who is in foster care.

(j) A pregnant, parenting, or caregiving student.

(k) A student impacted by the justice system, including a formerly incarcerated student.

(l) A student who is the first in their family to attend postsecondary education.

(m) A student enrolling in or seeking to enroll in postsecondary education for the first time at the age of 20 or older.

(n) A student who is working full-time while enrolled in postsecondary education.

(o) A student who is enrolled in or is seeking to enroll in postsecondary education who is eligible for a Pell Grant.

(p) An adult student in need of improving their basic skills or an adult student with limited English proficiency.

(q) A military- or veteran-connected student.

Program Authority: 20 U.S.C. 1070a-11 and 20 U.S.C. 1070a-14.

Applicable Regulations: (a) The Education Department General Administrative Regulations (EDGAR) in 34 CFR parts 75 (except for 75.215 through 75.221), 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200 (Uniform Guidance), as adopted and amended as regulations of the Department in 2 CFR part 3474. (d) The regulations for this program in 34 CFR part 646. (e) The Supplemental Priorities.

Note: The regulations in 34 CFR part 79 apply to all applicants except federally recognized Indian Tribes.

Note: The regulations in 34 CFR part 86 apply to institutions of higher education (IHEs) only.

II. Award Information

Type of Award: Discretionary grants.

Estimated Available Funds: The Administration has requested $1,211,000,000 for the Federal TRIO Programs for FY 2025, of which we intend to use an estimated $381,883,715 for new SSS awards under this competition. The actual level of funding, if any, depends on final congressional action. However, we are inviting applications to allow enough time to complete the grant process if Congress appropriates funds for the Federal TRIO Programs.

Contingent upon the availability of funds and the quality of applications, we may make additional awards in subsequent years from the list of unfunded applications from this competition.

Estimated Range of Awards: $148,181-$1,659,366.

Estimated Average Size of Awards: $324,456.

Maximum Award: The maximum award varies based on whether the applicant is currently receiving an SSS grant, as well as the type of project and number of students served. For applicants not currently receiving an SSS Program grant, the maximum awards are as follows:

Type of proposal | Maximum amount *
Regular SSS Proposal Serving a Minimum of 140 Student Participants | $272,364
Regular SSS Proposal Serving a Minimum of 100 Student Participants who are Students with Disabilities | 272,364
English as a Second Language (ESL) SSS Proposal Serving a Minimum of 140 Student Participants | 272,364
Science, Technology, Engineering, and Mathematics (STEM) and Health Science SSS Proposal Serving a Minimum of 120 Student Participants | 272,364
Teacher Preparation SSS Proposal Serving a Minimum of 140 Student Participants | 272,364
Veterans SSS Proposal Serving a Minimum of 120 Student Participants | 272,364

For applicants proposing to serve fewer than the minimum number of student participants specified in the above table, the maximum award is an amount equal to: $1,945 per student participant for Regular, ESL, and Teacher Preparation proposals; $2,724 per student participant for projects serving Students with Disabilities (SWD proposals); and $2,270 per student participant for STEM (including Health Science) and Veterans proposals.

For applicants currently receiving an SSS Program grant, the maximum award amount is the greater of (a) $272,364 or (b) 100 percent of the applicant's base award amount for FY 2024.

For any currently funded applicant that proposes to serve fewer students than it served in FY 2024, the maximum award is the amount that corresponds with the cost per participant previously established for the project in FY 2024.

Estimated Number of New Awards: 1,159.

Note: The Department is not bound by any estimates in this notice.

Project Period: Up to 60 months.

III. Eligibility Information

1. Eligible Applicants: IHEs or combinations of IHEs.

Note: Combinations of IHEs under this competition must follow the procedures under 34 CFR 75.127-75.129 in developing a group application. This includes developing an agreement that details the activities that each member of the group plans to perform and binds each member of the group to every statement and assurance made by the applicant in the application. This agreement must be submitted with the application.

2.a. Cost Sharing or Matching: Section 402D(d)(4) of the HEA requires that all successful applicants that use SSS Program funds to provide grant aid to students pursuant to section 402D(d)(1) of the HEA must provide matching funds, in cash, from non-Federal funds, in an amount that is not less than 33 percent of the total amount of the SSS Program funds used for this aid. This matching requirement does not apply to a grant recipient that is an IHE eligible to receive funds under part A or part B of title III or under title V of the HEA.

b. Supplement-Not-Supplant: This competition involves supplement, not supplant funding requirements. Under section 404B(e) of the HEA (20 U.S.C. 1070a-22(e)), grant funds awarded under this program must be used to supplement, and not supplant, other Federal, State, and local funds that would otherwise be expended to carry out activities assisted under this program.

c. Indirect Cost Rate Information: For entities eligible to apply to this competition, the program regulations at 34 CFR 694.11 limit indirect cost reimbursement to the rate determined in the entity's negotiated indirect cost rate agreement, or 8 percent of a modified total direct cost base, whichever amount is less. For more information regarding indirect costs, or to obtain a negotiated indirect cost rate, please see www2.ed.gov/about/offices/list/ocfo/intro.html.

d. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

4. Other: An applicant may submit multiple applications if each separate application describes a project that will serve a different campus or a different population (section 402A(c)(5) of the HEA).

Under section 402A(h)(1) of the HEA, the term “different campus” means a site of an IHE that—(a) is geographically apart from the main campus of the institution; (b) is permanent in nature; and (c) offers courses in educational programs leading to a degree, certificate, or other recognized educational credential.

Under section 402A(h)(2) of the HEA, the term “different population” means a group of individuals that an eligible entity desires to serve through an SSS grant that is separate and distinct from any other population that the entity has applied to serve using Federal TRIO Program funds, or, while sharing some of the same needs as another population that the eligible entity has applied to serve using Federal TRIO Program funds, has distinct needs for specialized services. To implement the requirement in section 402A(h)(2) of the HEA for this competition, the Secretary is designating the populations to be served as: participants who meet the specific requirements for SSS services, participants who are students with disabilities, participants who need ESL services, participants receiving services in the STEM fields, participants receiving Teacher Preparation Services, and participants who have served in the armed forces. These different populations need different types of services. Accordingly, the Secretary has determined that projects serving these different populations should be subject to different standards for the minimum number of participants. An applicant may submit more than one application as long as each application proposes to serve a different population. For project types other than a regular SSS project, an applicant must propose to serve 100 percent of the students in the specific project type.

IV. Application and Submission Information

1. Application Submission Instructions: Applicants are required to follow the Common Instructions for Applicants to Department of Education Discretionary Grant Programs, published in the Federal Register on December 7, 2022 (87 FR 75045), and available at www.federalregister.gov/d/2022-26554, which contain requirements and information on how to submit an application.

2. Intergovernmental Review: This program is subject to Executive Order 12372 and the regulations in 34 CFR part 79. Information about Intergovernmental Review of Federal Programs under Executive Order 12372 is in the application package for this program.

3. Funding Restrictions: We specify unallowable costs in 34 CFR 646.31. We reference additional regulations outlining funding restrictions in the Applicable Regulations section of this notice.

4. Recommended Page Limit: The application narrative, Part III of the application, is where you, the applicant, address the selection criteria that reviewers use to evaluate your application. We recommend that you (1) limit the application narrative, which includes the budget narrative, to no more than 65 pages and (2) use the following standards:

• A “page” is 8.5″ x 11″, on one side only, with 1″ margins at the top, bottom, and both sides.

• Double-space (no more than three lines per vertical inch) all text in the application narrative, excluding titles, headings, footnotes, quotations, references, and captions, as well as all text in charts, tables, figures, and graphs.

• Use a font that is either 12-point font or larger or no smaller than 10 pitch (characters per inch).

• Use one of the following fonts: Times New Roman, Courier, Courier New, or Arial.

The recommended 65-page limit does not apply to Part I, the Application for Federal Assistance cover sheet (SF 424); Part II, the Budget Information Summary form (ED Form 524); Part III-A, the SSS Program Profile form; Part III-B, the one-page Project Abstract form; or Part IV, the assurances and certifications. The recommended page limit also does not apply to a table of contents, which you should include in the application narrative. You must include your complete response to the selection criteria in the application narrative.

We recommend that any application addressing the competitive preference priorities include no more than three additional pages each for priorities 1 and 2, if addressed. Applications that do not follow the page limit and formatting recommendations will not be penalized.

V. Application Review Information

1. Selection Criteria: The selection criteria for this competition are from 34 CFR 646.21 and 75.210.

We will award up to 105 points to an application under the selection criteria and up to 8 additional points to an application under the competitive preference priorities, for a total score of up to 113 points. The maximum number of points available for each criterion is indicated in parentheses.

(a) Need for the project. (up to 24 points)

The Secretary evaluates the need for an SSS project proposed at the applicant institution on the basis of the extent to which the application contains clear evidence of—

(1) A high number or percentage, or both, of students enrolled or accepted for enrollment at the applicant institution who meet the eligibility requirements of 34 CFR 646.3 (up to 8 points);

(2) The academic and other problems that eligible students encounter at the applicant institution (up to 8 points); and

(3) The differences between eligible SSS students compared to an appropriate group, based on the following indicators:

(i) Retention and graduation rates.

(ii) Grade point averages.

(iii) Graduate and professional school enrollment rates (four-year colleges only).

(iv) Transfer rates from two-year to four-year institutions (two-year colleges only) (up to 8 points).

(b) Objectives. (up to 8 points) The Secretary evaluates the quality of the applicant's proposed objectives in the following areas on the basis of the extent to which they are both ambitious, as related to the need data provided under paragraph (a) of this section, and attainable, given the project's plan of operation, budget, and other resources.

(1) Retention in postsecondary education (3 points).

(2) In good academic standing at grantee institution (2 points).

(3) Two-year institutions only.

(i) Certificate or degree completion (1 point); and

(ii) Certificate or degree completion and transfer to a four-year institution (2 points).

(4) Four-year institutions only. Completion of a baccalaureate degree (3 points).

(c) Plan of operation. (up to 30 points) The Secretary evaluates the quality of the applicant's plan of operation on the basis of the following:

(1) The plan to inform the institutional community (students, faculty, and staff) of the goals, objectives, and services of the project and the eligibility requirements for participation in the project (up to 3 points).

(2) The plan to identify, select, and retain project participants with academic need (up to 3 points).

(3) The plan for assessing each individual participant's need for specific services and monitoring his or her academic progress at the institution to ensure satisfactory academic progress (up to 4 points).

(4) The plan to provide services that address the goals and objectives of the project (up to 10 points).

(5) The applicant's plan to ensure proper and efficient administration of the project, including the organizational placement of the project; the time commitment of key project staff; the specific plans for financial management, student records management, and personnel management; and, where appropriate, its plan for coordination with other programs for disadvantaged students (up to 10 points).

(d) Institutional commitment. (up to 16 points) The Secretary evaluates the institutional commitment to the proposed project on the basis of the extent to which the applicant has—

(1) Committed facilities, equipment, supplies, personnel, and other resources to supplement the grant and enhance project services (up to 6 points);

(2) Established administrative and academic policies that enhance participants' retention at the institution and improve their chances of graduating from the institution (up to 6 points);

(3) Demonstrated a commitment to minimize the dependence on student loans in developing financial aid packages for project participants by committing institutional resources to the extent possible (up to 2 points); and

(4) Assured the full cooperation and support of the Admissions, Student Aid, Registrar and data collection and analysis components of the institution (up to 2 points).

(e) Quality of personnel. (up to 9 points) To determine the quality of personnel the applicant plans to use, the Secretary looks for information that shows—

(1) The qualifications required of the project director, including formal education and training in fields related to the objectives of the project, and experience in designing, managing, or implementing SSS or similar projects (up to 3 points);

(2) The qualifications required of other personnel to be used in the project, including formal education, training, and work experience in fields related to the objectives of the project (up to 3 points); and

(3) The quality of the applicant's plan for employing personnel who have succeeded in overcoming barriers similar to those confronting the project's target population (up to 3 points).

(f) Budget. (up to 5 points) The Secretary evaluates the extent to which the project budget is reasonable, cost-effective, and adequate to support the project.

(g) Evaluation plan. (up to 8 points) The Secretary evaluates the quality of the evaluation plan for the project on the basis of the extent to which—

(1) The applicant's methods for evaluation—

(i) Are appropriate to the project and include both quantitative and qualitative evaluation measures (up to 2 points); and

(ii) Examine in specific and measurable ways, using appropriate baseline data, the success of the project in improving academic achievement, retention and graduation of project participants (up to 2 points); and

(2) The applicant intends to use the results of an evaluation to make programmatic changes based upon the results of project evaluation (up to 4 points).

(h) Quality of the project design. (up to 5 points)

In determining the quality of the design of the proposed project, the Secretary considers the extent to which the proposed project demonstrates a rationale (as defined in this notice).

Note: Under the “Objectives” selection criterion in paragraph (b) above, applicants must address the standardized objectives in 34 CFR 646.21(b)(1) through (4) related to the participants' academic achievements, including retention, good academic standing, graduation, and transfer rates. The graduation objective should be measured by cohorts of students who become SSS Program participants in each year of the project and should be compared to a relevant and valid comparison group. The graduation, certificate, and transfer rates for two-year institutions should be measured over a four-year period and that of four-year institutions should be measured over a six-year period.

Note: For the selection criterion “Quality of personnel” in paragraph (e), applicants are encouraged to include in their application that they are committed to paying their staff a living wage for the local area and providing benefits.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

For this competition, a panel of non-Federal reviewers will review each application in accordance with the selection criteria in 34 CFR 646.21 and 75.210 and the competitive preference priorities. The individual scores of the reviewers will be added and the sum divided by the number of reviewers to determine the peer review score received in the review process. Additionally, in accordance with 34 CFR 646.22, the Secretary will award up to 15 prior experience points to applicants that have conducted an SSS Program project within the last three Federal government fiscal years, based on their documented experience. Prior experience points, if any, will be added to the application's averaged reader score to determine the total score for each application.

If there are insufficient funds for all applications with the same total scores, the Secretary will choose among the tied applications so as to serve geographical areas that have been underserved by the SSS Program by first selecting applicants from institutions that are not already recommended for new awards on the SSS slates. If there are still insufficient funds for all applications with the same score, the Secretary will select applicants from institutions that are designated as eligible to apply under the HEA titles III and V programs according to the most recent version (at the time of publication of this notice) of the Eligibility Matrix.

Finally, if there are still tied applications after implementing both of these tiebreakers, the Secretary will select applications from institutions with the highest percentage of undergraduate students who are Pell Grant recipients.

3. Risk Assessment and Specific Conditions:

Consistent with 2 CFR 200.206, before awarding grants under this competition, the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: The success of the SSS Program is measured by the percentage of SSS participants that complete a program of postsecondary education. The following performance measures have been developed to track progress toward achieving program success:

(a) The percentage of first-time, full-time first-year SSS Program participants who are still enrolled at the beginning of the next academic year or have earned a degree at a two-year grantee institution or transferred from a two-year to a four-year institution.

(b) The percentage of first-time, full-time first-year SSS Program participants at four-year institutions who received a bachelor's degree from the grantee institution within six years (Note: The Department will calculate this measure based both on 100 percent and 150 percent of normal completion time).

(c) The percentage of first-time, full-time SSS Program participants at two-year institutions who received an associate's degree and/or transferred to a four-year institution within three years (Note: The Department will calculate this measure based both on 100 percent and 150 percent of normal completion time).

(d) The cost per successful outcome. All SSS Program grantees are required to submit an annual performance report documenting the persistence and degree attainment of their participants. Since students take different amounts of time to complete their degrees, multiple years of performance report data are needed to determine the degree completion rates of SSS Program participants. The Department will aggregate the data provided in the annual performance reports from all grantees to determine the overall program accomplishment level.

6. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Nasser H. Paydar,
Assistant Secretary for Postsecondary Education.

[FR Doc. 2024-08328 Filed 4-30-24; 8:45 am]

BILLING CODE 4000-01-P